DEPARTMENT OF LABOR

Employee Benefits Security Administration

147th Meeting of the Advisory Council on Employee Welfare and Pension Benefit Plans; Notice of Meeting

Pursuant to the authority contained in Section 512 of the Employee Retirement Income Security Act of 1974 (ERISA), 29 U.S.C. 1142, the 147th open meeting of the Advisory Council on Employee Welfare and Pension Benefit Plans will be held on September 15-17, 2009.

The three-day meeting will take place in Room N 3437 A&B, U.S. Department of Labor, 200 Constitution Avenue NW., Washington, DC 20210. The meeting will run from 9 a.m. to approximately 5 p.m. on September 15 and 16, and from 8 a.m. to approximately 4 p.m. on September 17, with a one hour break for lunch each day. The purpose of the open meeting is for Council members to hear testimony from invited witnesses and to receive an update from the Employee Benefits Security Administration (EBSA).

The Council will study the following issues: (1) Promoting Retirement Literacy and Security by Streamlining Disclosures to Participants and Beneficiaries, (2) Stable Value Funds and Retirement Security in the Current Economic Conditions, and (3) Approaches for Retirement Security in the United States. The schedule for testimony and discussion of these issues generally will be one issue per day in the order noted above. Descriptions of these topics are available on the Advisory Council page of the EBSA Web site at http://www.dol.gov/ebsa/aboutebsa/erisa_advisory_council.html. The EBSA update is scheduled for September 16 at 9 a.m., subject to change.

Organizations or members of the public wishing to submit a written statement may do so by submitting 30 copies on or before September 8, 2009 to Larry Good, Executive Secretary, ERISA Advisory Council, U.S. Department of Labor, Suite N-5623, 200 Constitution Avenue, NW., Washington, DC 20210. Statements also may be submitted as e-mail attachments in text or pdf format transmitted to good.larry@dol.gov. It is requested that statements not be included in the body of the e-mail. Relevant statements received on or before September 8, 2009 will be included in the record of the meeting. Individuals or representatives of organizations wishing to address the Advisory Council should forward their requests to the Executive Secretary or telephone (202) 693-8668. Oral presentations will be limited to ten minutes, time permitting, but an extended statement may be submitted for the record. Individuals with disabilities who need special accommodations should contact Larry Good by September 8 at the address indicated.

Signed at Washington, DC this 24th day of August 2009.
Phyllis C. Borzi,
Assistant Secretary, Employee Benefits Security Administration.

[FR Doc. E9-20794 Filed 8-27-09; 8:45 am]

BILLING CODE 4510-29-P